DEPARTMENT OF LABOR

Employment and Training Administration

[TA-W-53,798]

Mohican Mills, Inc., Lincolnton, NC; Negative Determination on Reconsideration

On April 16, 2004, the Department issued an Affirmative Determination Regarding Application for Reconsideration for the workers and former workers of the subject firm. The Department's notice was published in the Federal Register on April 30, 2004 (69 FR 23818).

The Department initially denied Trade Adjustment Assistance (TAA) to workers of Mohican Mills, Inc., Lincolnton, North Carolina because the “contributed importantly” group eligibility requirement of section 222(3) of the Trade Act of 1974 was not met. The subject worker group produces textiles, primarily warp knit products, and workers are not separately identifiable by product line. During the relevant period, the company did not import or shift production abroad. A survey of the company's major declining customers revealed insignificant amounts of warp knit fabric imports during the relevant time period. Aggregate data showed decreased imports during the relevant time.

The petitioner alleges in the request for reconsideration that lace is not the same as warp knit fabrics and that workers who make lace produces are separately identifiable from workers who make other types of warp knit fabric. The petitioner requests that the negative determination not be applied to lace producers and that the Department address only lace products in the new investigation. The petitioner also alleges that that increased imports of raw lace material has negatively impacted domestic lace production.

In the reconsideration investigation, the Department contacted the company and was informed that lace is a type of warp knit fabric and that lace production constitutes a small percentage of production (about five percent). The company also confirmed that the workers are not separately identifiable by product line. A new customer survey of lace product imports was not conducted because the initial survey of warp knit fabric was appropriate.

Conclusion

After reconsideration, I affirm the original notice of negative determination of eligibility to apply for worker adjustment assistance for workers and former workers of Mohican Mills, Inc., Lincolnton, North Carolina.

Signed at Washington, DC, this 7th day May, 2004.
Elliott S. Kushner,
Certifying Officer, Division of Trade Adjustment Assistance, Assistance.

[FR Doc. 04-11627 Filed 5-21-04; 8:45 am]

BILLING CODE 4510-30-P